FEDERAL COMMUNICATIONS COMMISSION

47 CFR Parts 73 and 76

[MM Docket No 00-167; FCC 06-33]

Children's Television Obligations of Digital Television Broadcasters

AGENCY: Federal Communications Commission.

ACTION: Proposed Rule.

SUMMARY: This document seeks public comment on a joint proposal filed by several broadcast and programming entities and children's television advocates proposing revisions to previously adopted requirements of television licensees to provide educational programming for children.

DATES: The Commission must receive comments on or before April 24, 2006, and reply comments on or before May 8, 2006.

ADDRESSES: You may submit comments, identified by MM Docket No 00-167, by any of the following methods:

• Federal eRulemaking Portal: http://www.regulations.gov. Follow the instructions for submitting comments.

• Federal Communications Commission's Web Site: http://www.fcc.gov/cgb/ecfs/. Follow the instructions for submitting comments.

• E-mail: ecfs@fcc.gov. Include the following words in the body of the message, get form. A sample form and directions will be sent in response.

• Mail: Commercial overnight mail (other than U.S. Postal Service Express Mail and Priority Mail) must be sent to 9300 East Hampton Drive, Capitol Heights, MD 20743. U.S. Postal Service first-class, Express, and Priority mail should be addressed to 445 12th Street, SW., Washington DC 20554.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Kim Matthews, Policy Division, Media Bureau, Federal Communications Commission, (202) 418-2154 or Holly Saurer, Media Bureau, Federal Communications Commission (202) 418-7283.

SUPPLEMENTARY INFORMATION: On September 9, 2004, the Commission adopted a Report and Order and Further Notice of Proposed Rule Making, 70 FR 25 (January 3, 2005) (“Order”) in the above-captioned proceeding. The Order addresses matters related to two areas: the obligation of television licensees to provide educational programming for children and the requirement that television licensees protect children from excessive and inappropriate commercial messages. Some of the rules and policies adopted in the Order apply only to digital broadcasters while others apply to both analog and digital broadcasters as well as cable operators. A number of parties have petitioned for Commission reconsideration of the Order. In addition, petitions for judicial review of the Order and other requests for relief are pending before the U.S. Court of Appeals for the Sixth Circuit.

On December 16, 2005, the Commission adopted an Order Extending Effective Date, FCC 05-211, MM Docket No. 00-167 (rel. December 16, 2005) extending the effective date of most of the rules adopted in the Order until 60 days after publication in the Federal Register of an order on reconsideration in this proceeding; see 71 FR 5176 (February 1, 2006). The Commission noted that representatives of the broadcast and cable industries and public interest groups interested in children's television issues had been meeting in an attempt to resolve their differences regarding the new rules that are the subject of the litigation. The Commission further noted that those parties had informed the Commission that they had reached an agreement on a recommendation to the Commission that, if adopted, would resolve their concerns with the Commission's rules. In light of that agreement and the issues raised in the pending petitions for reconsideration, the Commission found that the public interest would be served by delaying the effective date of the new rules to permit the Commission to act on the petitions for reconsideration and to afford broadcasters and cable operators additional time to come into compliance with the revised children's television requirements, as such requirements may be modified on reconsideration. The Commission noted that it would seek comment on the parties' recommendation separately.

On February 9, 2006, the broadcast and cable industry representatives and children's television public interest groups involved in negotiations regarding the Order filed with the Commission a “Joint Proposal of Industry and Advocates on Reconsideration of Children's Television Rules' (“Joint Proposal”). The Joint Proposal contains a somewhat more detailed discussion of the parties' recommendations regarding modifications of the rules adopted in the Order. A copy of the Joint Proposal is attached to the Second Further Notice of Proposed Rulemaking. The Joint Proposal can also be found in MM Docket 00-167 using the Commission's Electronic Comment Filing System (“ECFS”) available at http://www.fcc.gov/cgb/ecfs/.

We hereby invite the public to comment on the rules and policies adopted in the Order in light of the recommendations reflected in the Joint Proposal. In particular, we seek comment on whether, and to what extent, the Commission should adopt these recommendations for modification of the rules adopted in the Order or any alternative modifications. The Commission will consider the Joint Proposal and the comments filed in response to this Second Further Notice of Proposed Rule Making together with the petitions for reconsideration previously filed in response to the Order in determining what action to take on reconsideration in this proceeding.

Ex Parte Rules. This is a permit-but-disclose notice and comment rulemaking proceeding. Ex parte presentations are permitted, except during the Sunshine Agenda period, provided that they are disclosed as provided in the Commission's Rules. See generally 47 CFR 1.1202, 1.1203, and 1.1206(a).

Comment Information. Pursuant to §§ 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

Electronic Filers: Comments may be filed electronically using the Internet by accessing the ECFS: http://www.fcc.gov/cgb/ecfs/ or the Federal eRulemaking Portal: http://www.regulations.gov. Filers should follow the instructions provided on the Web site for submitting comments.

For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

Commercial overnight mail (other than U.S. Postal Service Express Mail and Priority Mail) must be sent to 9300 East Hampton Drive, Capitol Heights, MD 20743.

U.S. Postal Service first-class, Express, and Priority mail should be addressed to 445 12th Street, SW., Washington DC 20554.

People with Disabilities: To request materials in accessible formats for people with disabilities (braille, large print, electronic files, audio format), send an e-mail to fcc504@fcc.gov or call the Consumer & Governmental Affairs Bureau at 202-418-0530 (voice), 202-418-0432 (tty).

Initial Paperwork Reduction Act Analysis

This Second Further Notice of Proposed Rulemaking (“Second Further Notice”) contains proposed information collection requirements subject to the Paperwork Reduction Act of 1995. As part of our continuing effort to reduce paperwork burdens, we invite OMB, the general public, and other Federal agencies to take this opportunity to comment on the information collections contained in this Second Further Notice, as required by the Paperwork Reduction Act of 1995, Public Law 104-13. Public and agency comments are due May 26, 2006. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law 107-198, see 44 U.S.C. 3506(c)(4), we seek specific comment on how we might “further reduce information collection burden on small business concerns with fewer than 25 employees.” In addition to filing comments with the Secretary, a copy of any comments on the information collections contained herein should be submitted to Cathy Williams, Federal Communications Commission, 445 Twelfth Street, SW., Room 1-C823, Washington, DC 20554, or via the Internet to Cathy.Williams@fcc.gov and to Kristy L. LaLonde, OMB Desk Officer, 10234 NEOB, 725 17th Street, NW., Washington, DC 20503 or via the Internet to Kristy_L. LaLonde@omb.eop.gov, or via fax at 202-395-5167.

OMB Control Number: 3063-0754.

Title: Children's Television Programming Report.

Form No: FCC Form 398.

Type of Review: Revision of a currently approved collection.

Respondents: Business or other for-profit entities.

Number of Respondents: 1,962.

Estimated Time Per Response: 12 hours per quarter.

Frequency of Response: Recordkeeping requirement; Quarterly reporting requirement.

Total Annual Burden: 94,176 hours.

Total Annual Costs: $3,139,200.

Privacy Act Impact Assessment: No impact(s).

Needs and Uses: This Second Further Notice of Proposed Rule Making seeks comment on a Joint Proposal of Industry and Advocates on Reconsideration of Children's Television Rules proposing changes to the children's television rules adopted by the Commission in its 2004 Report and Order and Further Notice of Proposed Rule Making in MM Docket 00-167, FCC 04-221, In the Matter of Children's Television Obligations of Digital Television Broadcasters.

The Report and Order, MM Docket 00-167, FCC 04-221, adopted several new requirements that added additional recordkeeping and reporting requirements for licensees, including changes to FCC Form 398. In addition, the Joint Proposal recommends changes to some of the reporting and recordkeeping requirements, which would require additional changes to FCC Form 398, if the Joint Proposal is adopted by the Commission.

FCC Form 398 is required to be filed by commercial television broadcast stations each calendar quarter. The form is used to provide information of the efforts of commercial television stations to provide children's educational and informational programs aired to meet their obligation under the Children's Television Act of 1990 (CTA). The FCC Form 398 assists in efforts by the public and the Commission to monitor station compliance with the CTA.

Initial Regulatory Flexibility Analysis. As required by the Regulatory Flexibility Act, 5 U.S.C. 603 the Commission has prepared an Initial Regulatory Flexibility Analysis (IRFA) of the possible significant economic impact on a substantial number of small entities of the proposals addressed in this Second Further Notice of Proposed Rulemaking. The IRFA is set forth in the Appendix of the Second Further Notice. Written public comments are requested on the IRFA. These comments must be filed in accordance with the same filing deadlines for comments on the Second Further Notice, and they should have a separate and distinct heading designating them as responses to the IRFA.

Additional Information. For additional information on this proceeding, please contact Kim Matthews, Policy Division, Media Bureau at (202) 418-2154, or Holly Saurer, Policy Division, Media Bureau at (202) 418-7283.

For additional information concerning the Paperwork Reduction Act information collection requirements contained in this document, contact Cathy Williams at (202) 418-2918 or via the Internet at Cathy.Williams@fcc.gov.

Accordingly, It is ordered that, pursuant to the authority contained in sections 4(i) & (j), 303, 307, 309 and 336 of the Communications Act of 1934 as amended, 47 U.S.C. 154(i) & (j), 303, 307, 309 and 336, this Second Further Notice of Proposed Rule Making is adopted.

It is further ordered that the Commission's Consumer and Governmental Affairs Bureau, Reference Information Center, will send a copy of this Second Further Notice of Proposed Rule Making, including the IRFA, to the Chief Counsel for Advocacy of the Small Business Administration, in accordance with the Regulatory Flexibility Act.

Federal Communications Commission.
Marlene H. Dortch,
Secretary.

[FR Doc. 06-2921 Filed 3-24-06; 8:45 am]

BILLING CODE 6712-01-P